DEPARTMENT OF HEALTH AND HUMAN SERVICES

Centers for Disease Control and Prevention

Injury Research Grant Review Committee: Notice of Charter Renewal

This gives notice under the Federal Advisory Committee Act (Pub. L. 92-463) of October 6, 1972, that the Injury Research Grant Review Committee, Centers for Disease Control and Prevention of the Department of Health and Human Services, has been renewed for a 2-year period extending through August 20, 2003.

For further information contact: Richard W. Sattin, M.D., Executive Secretary, Injury Research Grant Review Committee, Centers for Disease Control and Prevention of the Department of Health and Human Services, 1600 Clifton Road, NE, M/S K58, Atlanta, Georgia 30333, telephone 770/488-4821.

The Director, Management and Analysis and Services Office, has been delegated the authority to sign Federal Register notices pertaining to announcements of meetings and other committee management activities, for both the Centers for Disease Control and Prevention and the Agency for Toxic Substances and Disease Registry.

Dated: August 14, 2001.
Carolyn J. Russell,
Director, Management Analysis and Services Office, Centers for Disease Control and Prevention.

[FR Doc. 01-20874 Filed 8-17-01; 8:45 am]

BILLING CODE 4163-18-P